DEPARTMENT OF TRANSPORTATION

Federal Aviation Administration

14 CFR Part 39

[Docket No. FAA-2014-0531; Directorate Identifier 2014-NM-142-AD; Amendment 39-17940; AD 2014-16-16]

RIN 2120-AA64

Airworthiness Directives; Empresa Brasileira de Aeronautica S.A. (Embraer) Airplanes

AGENCY: Federal Aviation Administration (FAA), Department of Transportation (DOT).

ACTION: Final rule; request for comments.

SUMMARY: We are adopting a new airworthiness directive (AD) for all Embraer S.A. Model ERJ 190-100 STD, -100 LR, -100 ECJ, -100 IGW, -200 STD, -200 LR, and -200 IGW airplanes. This AD requires, for certain airplanes, retorquing and replacing the pylon outboard and inboard lower link fittings. For all airplanes, this AD requires repetitive retorquing of the pylon outboard and inboard lower link fittings. This AD was prompted by a report of a loose lower link assembly on the left and right pylons. We are issuing this AD to prevent loss of a shear pin on the pylon outboard and inboard lower link fittings, which could result in failure of the fitting and consequent separation of the engine from the wing.

DATES: This AD becomes effective September 2, 2014.

The Director of the Federal Register approved the incorporation by reference of certain publications listed in this AD as of September 2, 2014.

We must receive comments on this AD by September 29, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Embraer S.A., Technical Publications Section (PC 060), Av. Brigadeiro Faria Lima, 2170—Putim—12227-901 São Jose dos Campos—SP—Brazil; telephone +55 12 3927-5852 or +55 12 3309-0732; fax +55 12 3927-7546; email distrib@embraer.com.br; Internet http://www.flyembraer.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0531; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Kathrine Rask, Aerospace Engineer, International Branch, ANM-116, Transport Airplane Directorate, FAA, 1601 Lind Avenue SW., Renton, WA 98057-3356; telephone 425-227-2180; fax 425-227-1149.

SUPPLEMENTARY INFORMATION:

Discussion

The Agência Nacional de Aviação Civil (ANAC), which is the aviation authority for Brazil, has issued Brazilian Airworthiness Directive 2014-07-01, dated July 10, 2014 (referred to after this as the Mandatory Continuing Airworthiness Information, or “the MCAI”), to correct an unsafe condition on all Embraer S.A. Model ERJ 190-100 STD, -100 LR, -100 ECJ, -100 IGW, -200 STD, -200 LR, and -200 IGW airplanes. The MCAI states:

It has been found that repetitive tightening torque check required by EAD 2014-06-02—EMBRAER S.A./39-1383 may not be sufficient to prevent the lower inboard and outboard link fitting attaching parts, of the left hand (LH) and right hand (RH) pylon, from getting loose which could lead to the failure of one of those fittings and the consequent separation of the engine from the wing.

Required actions include retorquing and replacing the pylon outboard and inboard lower link fittings on certain airplanes, and repetitively retorquing the pylon outboard and inboard lower link fittings on all airplanes. You may examine the MCAI on the Internet at http://www.regulations.gov by searching for and locating Docket No. FAA-2014-0531.

Relevant Service Information

Embraer has issued the following service information:

• Embraer Alert Service Bulletin 190-54-A015, Revision 03, dated June 27, 2014.

• Embraer Alert Service Bulletin 190LIN-54-A006, Revision 02, dated June 27, 2014.

• Embraer Service Bulletin 190-54-0013, dated November 27, 2012.

• Embraer Service Bulletin 190-54-0015, dated July 3, 2014.

• Embraer Service Bulletin 190LIN-54-0004, dated December 20, 2012.

• Embraer Service Bulletin 190LIN-54-0006, dated July 3, 2014.

The actions described in this service information are intended to correct the unsafe condition identified in the MCAI.

FAA's Determination and Requirements of this AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Difference Between This AD and the MCAI or Service Information

The applicability of the MCAI does not include production airplanes. This FAA AD, however, applies to all airplanes of the affected models to ensure that the repetitive retorquing is done on the fleet (as specified in paragraph (i) of this AD) and to prohibit the installation of certain lock nuts on any airplane in the fleet (as specified in paragraph (j) of this AD).

The airplanes affected by paragraph (g)(2) of this AD include one airplane (serial number 19000641) that is not included in the corresponding requirement of the ANAC AD. For the airplanes affected by this requirement, the ANAC AD refers to Embraer Alert Service Bulletin 190LIN-54-A006, Revision 02, dated June 27, 2014. This FAA AD, however, refers to the most recent service information—Embraer Service Bulletin 190LIN-54-0006, dated July 3, 2014, which includes this additional airplane. This has been coordinated with ANAC.

“Contacting the Manufacturer” Paragraph in This AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In an NPRM having Directorate Identifier 2012-NM-101-AD (78 FR 78285, December 26, 2013), we proposed to prevent the use of repairs that were not specifically developed to correct the unsafe condition, by requiring that the repair approval provided by the State of Design Authority or its delegated agent specifically refer to the FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

One commenter to the NPRM having Directorate Identifier 2012-NM-101-AD (78 FR 78285, December 26, 2013) stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, ANAC, or ANAC's authorized Designee.

The Contacting the Manufacturer paragraph also clarifies that, if approved by the ANAC Designee, the approval must include the Designee's authorized signature. The Designee's signature indicates that the data and information contained in the document are ANAC-approved, which is also FAA-approved. Messages and other information provided by the manufacturer that do not contain the ANAC Designee's authorized signature approval are not ANAC-approved, unless ANAC directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Interim Action

We consider this AD interim action. If final action is later identified, we might consider further rulemaking then.

FAA's Determination of the Effective Date

An unsafe condition exists that requires the immediate adoption of this AD. The FAA has found that the risk to the flying public justifies waiving notice and comment prior to adoption of this rule because loss of a shear pin on the pylon outboard and inboard lower link fittings could result in failure of the fitting and consequent separation of the engine from the wing. Therefore, we determined that notice and opportunity for public comment before issuing this AD are impracticable and that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2014-0531; Directorate Identifier 2014-NM-142-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 86 airplanes of U.S. registry. We also estimate that it will take about 6 work-hours per product to comply with the basic requirements of this AD. Required parts will cost about $0. The average labor rate is $85 per work-hour. Based on these figures, we estimate the cost of this AD on U.S. operators to be $43,860, or $510 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-16-16 Embraer S.A.: Amendment 39-17940. Docket No. FAA-2014-0531; Directorate Identifier 2014-NM-142-AD.

(a) Effective Date

This AD becomes effective September 2, 2014.

(b) Affected ADs

None.

(c) Applicability

This AD applies to all Embraer S.A. Model ERJ 190-100 STD, -100 LR, -100 ECJ, -100 IGW, -200 STD, -200 LR, and -200 IGW airplanes, certificated in any category.

(d) Subject

Air Transport Association (ATA) of America Code 54, Nacelles/Pylons.

(e) Reason

This AD was prompted by a report of a loose lower link assembly on the left and right pylons. We are issuing this AD to prevent loss of a shear pin on the pylon outboard and inboard lower link fittings, which could result in failure of the fitting and consequent separation of the engine from the wing.

(f) Compliance

Comply with this AD within the compliance times specified, unless already done.

(g) Initial Retorque

Retorque the left and right pylon outboard and inboard lower link fittings, as specified in paragraph (g)(1) or (g)(2) of this AD, as applicable.

(1) For airplanes identified as Groups 1 and 2 in Embraer Service Bulletin 190-54-0015, dated July 3, 2014: Retorque at the applicable time specified in paragraph (g)(1)(i) or (g)(1)(ii) of this AD, in accordance with the Accomplishment Instructions of Embraer Alert Service Bulletin 190-54-A015, Revision 03, dated June 27, 2014.

(i) For Group 1 airplanes: Retorque at the applicable time specified in paragraph (g)(1)(i)(A) or (g)(1)(i)(B) of this AD.

(A) If, as of the effective date of this AD, the airplane has accumulated fewer than 600 total flight cycles and less than 750 total flight hours since accomplishment of the actions specified in Embraer Service Bulletin 190-54-0013: Retorque within 50 flight hours after the effective date of this AD.

(B) If, as of the effective date of this AD, the airplane has accumulated 600 or more total flight cycles or 750 or more total flight hours after accomplishment of Embraer Service Bulletin 190-54-0013: Retorque within 10 flight hours after the effective date of this AD.

(ii) For Group 2 airplanes: Retorque at the applicable time specified in paragraph (g)(1)(ii)(A) or (g)(1)(ii)(B) of this AD.

(A) If, as of the effective date of this AD, the airplane has accumulated fewer than 600 total flight cycles and less than 750 total flight hours: Retorque within 50 flight hours after the effective date of this AD.

(B) If, as of the effective date of this AD, the airplane has accumulated 600 or more total flight cycles or 750 or more total flight hours: Retorque within 10 flight hours after the effective date of this AD.

(2) For airplanes identified as Groups 1 and 2 in Embraer Service Bulletin 190LIN-54-0006, dated July 3, 2014: Retorque at the applicable time specified in paragraph (g)(2)(i) or (g)(2)(ii) of this AD, in accordance with the Accomplishment Instructions of Embraer Alert Service Bulletin 190LIN-54-A006, Revision 02, dated June 27, 2014.

(i) For Group 1 airplanes: Retorque at the applicable time specified in paragraph (g)(2)(i)(A) or (g)(2)(i)(B) of this AD.

(A) If, as of the effective date of this AD, the airplane has accumulated fewer than 200 total flight cycles and less than 750 total flight hours since accomplishment of the actions specified in Embraer Service Bulletin 190LIN-54-0004: Retorque within 50 flight hours after the effective date of this AD.

(B) If, as of the effective date of this AD, the airplane has accumulated 200 or more total flight cycles or 750 or more total flight hours since accomplishment of the actions specified in Embraer Service Bulletin 190LIN-54-0004: Retorque within 10 flight hours after the effective date of this AD.

(ii) For Group 2 airplanes: Retorque at the applicable time specified in (g)(2)(ii)(A) or (g)(2)(ii)(B) of this AD.

(A) If, as of the effective date of this AD, the airplane has accumulated fewer than 200 total flight cycles and less than 750 total flight hours: Retorque within 50 flight hours after the effective date of this AD.

(B) If, as of the effective date of this AD, the airplane has accumulated 200 or more total flight cycles or 750 or more total flight hours: Retorque within 10 flight hours after the effective date of this AD.

(h) Replacement

Replace the left and right pylon outboard and inboard lower link fittings as specified in paragraph (h)(1) or (h)(2), as applicable.

(1) For airplanes identified as Groups 1 and 2 in Embraer Service Bulletin 190-54-0015, dated July 3, 2014: Within 150 flight cycles or 200 flight hours, whichever occurs first after the effective date of this AD, replace the pylon outboard and inboard lower link fittings, in accordance with Parts I and II of the Accomplishment Instructions of Embraer Service Bulletin 190-54-0015, dated July 3, 2014.

(2) For airplanes identified as Groups 1 and 2 in Embraer Service Bulletin 190LIN-54-0006, dated July 3, 2014: Within 60 flight cycles or 200 flight hours, whichever occurs first after the effective date of this AD, replace the pylon outboard and inboard lower link fittings, in accordance with Parts I and II of the Accomplishment Instructions of Embraer Service Bulletin 190LIN-54-0006, dated July 3, 2014.

(i) Repetitive Retorquing

Retorque the left and right pylon outboard and inboard lower link fittings, as specified in paragraph (i)(1) or (i)(2) of this AD, as applicable.

(1) For Model ERJ 190-100 STD, &100 LR, -100 IGW, -200 STD, -200 LR, and -200 IGW airplanes: Retorque as specified in paragraph (i)(1)(i) or (i)(1)(ii) of this AD, as applicable, in accordance with Parts III and IV of the Accomplishment Instructions of Embraer Service Bulletin 190-54-0015, dated July 3, 2014.

(i) For airplanes identified as Groups 1 and 2 in Embraer Service Bulletin 190-54-0015, dated July 3, 2014: Retorque within 6,000 flight cycles or 7,500 flight hours, whichever occurs first after replacement of the pylon outboard and inboard lower link fittings required by paragraph (h) of this AD, and thereafter at intervals not to exceed 6,000 flight cycles or 7,500 flight hours, whichever occurs first.

(ii) For airplanes identified as Group 3 in Embraer Service Bulletin 190-54-0015, dated July 3, 2014, and Model ERJ 190-100 STD, -100 LR, -100 IGW, -200 STD, -200 LR, and -200 IGW airplanes having serial numbers 19000586 and subsequent: Retorque within 6,000 flight cycles or 7,500 flight hours, whichever occurs first after the effective date of this AD, and thereafter at intervals not to exceed 6,000 flight cycles or 7,500 flight hours, whichever occurs first.

(2) For Model ERJ 190-100 ECJ airplanes: Retorque as specified in paragraph (i)(2)(i) or (i)(2)(ii) of this AD, as applicable, in accordance with Parts III and IV of the Accomplishment Instructions of Embraer Service Bulletin 190LIN-54-0006, dated July 3, 2014.

(i) For airplanes identified as Groups 1 and 2 in Embraer Service Bulletin 190LIN-54-0006, dated July 3, 2014: Retorque within 2,000 flight cycles or 7,500 flight hours, whichever occurs first after replacement of the pylon outboard and inboard lower link fittings required by paragraph (h) of this AD, and thereafter at intervals not to exceed 2,000 flight cycles or 7,500 flight hours, whichever occurs first.

(ii) For airplanes identified as Group 3 in Embraer Service Bulletin 190LIN-54-0006, dated July 3, 2014, and Model ECJ airplanes having serial numbers 19000572 and subsequent: Retorque within 2,000 flight cycles or 7,500 flight hours, whichever occurs first after the effective date of this AD, and thereafter at intervals not to exceed 2,000 flight cycles or 7,500 flight hours, whichever occurs first.

(j) Parts Installation Prohibition

As of the effective date of this AD, no person may install, at the inboard or outboard lower link fitting on any airplane, a lock assembly identified in Embraer Service Bulletin 190-54-0013, dated November 27, 2012; or Embraer Service Bulletin 190LIN-54-0004, dated December 20, 2012.

(k) Credit for Previous Actions

This paragraph provides credit for the actions specified in paragraph (g) of this AD, if those actions were performed before the effective date of this AD using the service information specified in paragraphs (k)(1) through (k)(5) of this AD, as applicable. This service information is not incorporated by reference in this AD.

(1) Embraer Alert Service Bulletin 190-54-A015, dated June 23, 2014.

(2) Embraer Alert Service Bulletin 190-54-A015, Revision 01, dated June 26, 2014.

(3) Embraer Alert Service Bulletin 190-54-A015, Revision 02, dated June 27, 2014.

(4) Embraer Alert Service Bulletin 190LIN-54-A006, dated June 23, 2014.

(5) Embraer Alert Service Bulletin 190LIN-54-A006, Revision 01, dated June 26, 2014.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Kathrine Rask, Aerospace Engineer, International Branch, ANM-116, Transport Airplane Directorate, FAA; telephone 425-227-2180; fax 425-227-1149. Information may be emailed to 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or ANAC; or ANAC's authorized Designee. If approved by the ANAC Designee, the approval must include the Designee's authorized signature.

(m) Related Information

(1) Refer to Mandatory Continuing Airworthiness Information (MCAI) Brazilian Airworthiness Directive 2014-07-01, dated July 10, 2014, for related information. You may examine the MCAI on the Internet at http://www.regulations.gov by searching for and locating Docket No. FAA-2014-0531.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Embraer Alert Service Bulletin 190-54-A015, Revision 03, dated June 27, 2014.

(ii) Embraer Alert Service Bulletin 190LIN-54-A006, Revision 02, dated June 27, 2014.

(iii) Embraer Service Bulletin 190-54-0013, dated November 27, 2012.

(iv) Embraer Service Bulletin 190-54-0015, dated July 3, 2014.

(v) Embraer Service Bulletin 190LIN-54-0004, dated December 20, 2012.

(vi) Embraer Service Bulletin 190LIN-54-0006, dated July 3, 2014.

(3) For service information identified in this AD, contact Embraer S.A., Technical Publications Section (PC 060), Av. Brigadeiro Faria Lima, 2170—Putim—12227-901 São Jose dos Campos—SP—Brasil; telephone +55 12 3927-5852 or +55 12 3309-0732; fax +55 12 3927-7546; email distrib@embraer.com.br; Internet http://www.flyembraer.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to http://www.archives.gov/federal-register/cfr/ibr-locations.html.

Issued in Renton, Washington, on August 6, 2014.
Victor Wicklund,
Acting Manager, Transport Airplane Directorate, Aircraft Certification Service.

[FR Doc. 2014-19263 Filed 8-14-14; 8:45 am]

BILLING CODE 4910-13-P